DEPARTMENT OF ENERGY

Federal Energy Regulatory Commission

Combined Notice of Filings

Take notice that the Commission has received the following Natural Gas Pipeline Rate and Refund Report filings:

Docket Numbers: RP20-467-000.

Applicants: Dominion Energy Cove Point LNG, LP.

Description: Report Filing: Cove Point—RP20-467 Report of Refunds.

Filed Date: 5/3/21.

Accession Number: 20210503-5019.

Comments Due: 5 p.m. ET 5/17/21.

Docket Numbers: RP21-805-000.

Applicants: Equitrans, L.P.

Description: § 4(d) Rate Filing: Negotiated Rate Capacity Release Agreements—5/1/2021 to be effective 5/1/2021.

Filed Date: 5/3/21.

Accession Number: 20210503-5030.

Comments Due: 5 p.m. ET 5/17/21.

Docket Numbers: RP21-807-000.

Applicants: Rover Pipeline LLC.

Description: § 4(d) Rate Filing: Summary of Negotiated Rate Capacity Release Agreements on 5-3-21 to be effective 5/1/2021.

Filed Date: 5/3/21.

Accession Number: 20210503-5034.

Comments Due: 5 p.m. ET 5/17/21.

Docket Numbers: RP21-808-000.

Applicants: Eastern Shore Natural Gas Company.

Description: § 4(d) Rate Filing: Tariff Cleanup & Credit Addendum Addition to be effective 6/3/2021.

Filed Date: 5/3/21.

Accession Number: 20210503-5056.

Comments Due: 5 p.m. ET 5/17/21.

Docket Numbers: RP21-809-000.

Applicants: Alliance Pipeline L.P.

Description: § 4(d) Rate Filing: Ovintiv Permanent Release NRAs to be effective 5/1/2021.

Filed Date: 5/3/21.

Accession Number: 20210503-5073.

Comments Due: 5 p.m. ET 5/17/21.

Docket Numbers: RP21-810-000.

Applicants: NEXUS Gas Transmission, LLC.

Description: § 4(d) Rate Filing: Negotiated Rates—Various Releases eff 05-01-2021 to be effective 5/1/2021.

Filed Date: 5/3/21.

Accession Number: 20210503-5079.

Comments Due: 5 p.m. ET 5/17/21.

Docket Numbers: RP21-811-000.

Applicants: Enable Mississippi River Transmission, LLC.

Description: § 4(d) Rate Filing: Negotiated Rate Filing (Non-Conforming)—US Steel 5.1.2021 to be effective 5/1/2021.

Filed Date: 5/3/21.

Accession Number: 20210503-5092.

Comments Due: 5 p.m. ET 5/17/21.

Docket Numbers: RP21-812-000.

Applicants: Texas Eastern Transmission, LP.

Description: § 4(d) Rate Filing: Negotiated Rates—Release eff 5-1-2021 to be effective 5/1/2021.

Filed Date: 5/3/21.

Accession Number: 20210503-5120.

Comments Due: 5 p.m. ET 5/17/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 4, 2021.
Kimberly D. Bose,
Secretary.

[FR Doc. 2021-09831 Filed 5-7-21; 8:45 am]

BILLING CODE 6717-01-P